DEPARTMENT OF HOMELAND SECURITY

Federal Emergency Management Agency

Agency Information Collection Activities: Proposed Collection; Comment Request

AGENCY: Federal Emergency Management Agency, Emergency Preparedness and Response Directorate, Homeland Security.

ACTION: Notice and request for comments.

SUMMARY: The Federal Emergency Management Agency (FEMA), as part of its continuing effort to reduce paperwork and respondent burden, invites the general public and other Federal agencies to take this opportunity to comment on a proposed collection of information. In accordance with the Paperwork Reduction Act of 1995 (44 U.S.C. 3506(c)(2)(A)), this notice seeks comments concerning the Mortgage Portfolio Protection Program (MPPP) that is a mechanism used by lending institutions, mortgage servicing companies, and others servicing mortgage loan portfolios to bring their mortgage loan portfolios into compliance with the flood insurance purchase requirements of the Flood Disaster Protection Act of 1973.

SUPPLEMENTARY INFORMATION: The National Flood Insurance Program (NFIP) authorized by Public Law 90-448 (1968) and expanded by Public Law 93-234 (1973) provides Federally backed flood insurance for existing buildings exposed to flood risk. In accordance with Public Law 93-234, the purchase of flood insurance is mandatory when Federal and Federally related financial assistance is being provided for acquisition or construction of buildings located or to be located within FEMA identified special flood hazard areas of communities which are participating in the program.

Collection of Information

Title: Mortgage Portfolio Protection Program (MPPP).

Type of Information Collection: Reinstatement, with change, of a previously approved collection for which approval has expired.

Abstract: The Mortgage Portfolio Protection Program (MPPP) is a mechanism used by lending institutions, mortgage servicing companies, and others servicing mortgage loan portfolios to bring their mortgage loan portfolios into compliance with the flood insurance purchase requirements of the Flood Disaster Protection Act of 1973. Implementation of the various requirements of the MPPP should result in mortgagors, following receipt of notification of the need for flood insurance, showing evidence of such a policy or purchasing the necessary coverage through their local insurance agent or appropriate Write Your Own (WYO) Company. It is intended that flood insurance policies be written under the MPPP only as a last resort, and only on mortgages whose mortgagors have failed to respond to the various notifications required by the program. The requirements of the MPPP are contained in FEMA regulation 44 CFR 62.23(l).

Affected Public: Individuals and households; businesses or other for-profit; not-for-profit institutions; farms; small businesses or organizations; Federal agencies or employees; and State, local or tribal governments.

Estimated Total Annual Burden Hours: 6,093 hours.

Respondents | Number of respondents | Frequency of response | Hours per response (minutes) | Annual burden hours
| (A) | (B) | (C) | (A × B × C)
Lenders | 250 | As required | 30 | 125
Mortgagors | 11,936 | One-time | 30 | 5,968
Total | 12,186 |  |  | 6,093

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Branch, Information Resources Management Division, Information Technology Services Directorate, Federal Emergency Management Agency, Emergency Preparedness and Response Directorate, Department of Homeland Security, 500 C Street, SW., Room 316, Washington, DC 20472.

FOR FURTHER INFORMATION CONTACT: Contact Neil Furst, Mitigation Division, Federal Emergency Management Agency, Emergency Preparedness and Response Directorate at (202) 646-3428 for additional information. You may contact Ms. Anderson for copies of the proposed collection of information at telephone number (202) 646-2625, facsimile number (202) 646-3347, or e-mail address at InformationCollections@fema.gov.

Dated: March 26, 2003.
Vernon Adler,
Acting Division Director, Information Resources Management Division, Information Technology Services Directorate.

[FR Doc. 03-7790 Filed 4-1-03; 8:45 am]

BILLING CODE 6718-01-P